DEPARTMENT OF HOMELAND SECURITY

Coast Guard

33 CFR Part 165

[Docket No. USCG-2021-0345]

Vessel Traffic Assessment: Near Point Mugu, San Francisco Bay, Humboldt Bay, and Morro Bay, CA

AGENCY: Coast Guard, DHS.

ACTION: Notification of inquiry; request for comments.

SUMMARY: On July 28, 2021, U.S. Coast Guard (USCG) Pacific Area Command issued the Pacific Coast-Port Access Route Study (PAC-PARS) in the Federal Register directing USCG District Eleven and USCG District Thirteen to complete a PARS on the Pacific coast. In support of the PAC-PARS, USCG District Eleven has identified four areas to evaluate activities within its area of responsibility. USCG District Eleven requests public comments regarding vessel traffic patterns in the areas near Point Mugu and south of the Channel Islands in the Pacific Missile Range, San Francisco Bay, and the Bureau of Ocean Energy Management (BOEM) Humboldt Bay and Morro Bay offshore Wind Energy Areas (WEAs). Information received will be used to make recommendations regarding establishing safety routing measures to improve waterway operations and vessel movement along the California coast.

DATES: Comments and related material must be received on or before May 26, 2022.

ADDRESSES: You may submit comments identified by docket number USCG-2021-0345 using the Federal portal http://www.regulations.gov. See the “Public Participation and Request for Comments” portion of the SUPPLEMENTARY INFORMATION section for further instructions on submitting comments.

FOR FURTHER INFORMATION CONTACT: If you have questions about this notification of study, call or email Mr. Tyrone Conner, Eleventh Coast Guard District (dpw), U.S. Coast Guard; telephone (510) 437-2968, email Tyrone.L.Conner@uscg.mil.

SUPPLEMENTARY INFORMATION:

I. Table of Abbreviations

CFR Code of Federal Regulations

DHS Department of Homeland Security

U.S.C. United States Code

PAC Pacific Area Command

PARS Port Access Route Study

PAC-PARS Pacific Coast-Port Access Route Study

EEZ Exclusive Economic Zone

RNA Regulated Navigation Areas

TSS Traffic Separation Scheme

USCG United States Coast Guard

BOEM Bureau of Ocean Energy Management

WEA Wind Energy Area

NOI Notice of Inquiry

IMO International Maritime Organization

DOD Department of Defense

OCS Outer Continental Shelf

II. Background and Purpose

The Coast Guard is conducting a Port Access Route Study (PARS) to evaluate safe access routes for the movement of vessel traffic proceeding to or from ports or places along the western seaboard of the United States and to determine whether Fairways and Traffic Separation Schemes for vessels and/or International Maritime Organization (IMO) recommended routes should be established, adjusted and/or modified. The goal of the Pacific Coast-PARS (PAC-PARS) is to enhance maritime safety by examining shipping routes and waterway uses, and, to the extent practicable, reconcile the paramount right of navigation within designated port access routes with other waterway uses such as the development of aquaculture farms, offshore renewable energy, commercial spaceports/re-entry sites, marine sanctuaries, ports supporting Panamax vessels, potential LNG ports, Pacific Missile Range, and additional commercial vessel traffic. During the preliminary information-gathering portion, the areas near Point Mugu and south of the Channel Islands in the Pacific Missile Range, San Francisco Bay, and both BOEM WEAs were identified as high-interest zones for traffic congestion and navigation safety.

A. Requirements for PARS: Chapter 700, Ports and Waterways Safety, of Title 46 of the United States Code, specifically 46 U.S.C. 70003 directs the Secretary of the department in which the Coast Guard resides, in order to provide safe access routes for the movement of vessel traffic proceeding to or from ports or places subject to the jurisdiction of the United States, to designate necessary fairways and traffic separation schemes for vessels operating in the territorial sea of the United States and high seas approaches, outside the territorial sea, to such ports or places. Such a designation shall recognize, within the designated area, the paramount right of navigation over all other uses.

46 U.S.C. 70003 requires the Secretary to: (1) Undertake a study of the potential traffic density and the need for safe access routes for vessels in any area for which fairways or traffic separation schemes are proposed or that may otherwise be considered and publish notice of such undertaking in the Federal Register; (2) in consultation with the Secretary of State, the Secretary of the Interior, the Secretary of Commerce, the Secretary of the Army, and the Governors of affected States, as their responsibilities may require, take into account all other uses of the area under consideration, including, as appropriate, the exploration for, or exploitation of, oil, gas, or other mineral resources, the construction or operation of deep-water ports or other structures on or above the seabed or subsoil of the submerged lands or the Outer Continental Shelf of the United States, the establishment or operation of marine or estuarine sanctuaries, and activities involving recreational or commercial fishing; and (3) to the extent practicable, reconcile the need for safe access routes with the needs of all other reasonable uses of the area involved.

46 U.S.C. 70003 requires the Secretary to proceed expeditiously to complete any study undertaken; and after completion of such a study, to promptly issue a notice of proposed rulemaking for the designation contemplated or publish in the Federal Register a notice of rulemaking that no designation is contemplated as a result of the study and the reason for such determination.

B. Previous Port Access Route Studies: The approaches to San Francisco, CA, were last studied in 2009, and the final results were published in the Federal Register on June 20, 2011 (76 FR 35805). The study was conducted to evaluate the continued applicability and the potential need for modifications to the vessel routing to help reduce the risk of marine casualties and increase the efficiency of vessel traffic in the study area. All USCG publications regarding this study can be found by searching docket USCG-2009-0576 on https://www.regulations.gov. The Port Access Route Study for the Strait of Juan de Fuca, Haro Strait, Boundary Pass, Rosario Strait, the Strait of Georgia, and adjacent waters was completed in November 2000, published in the Federal Register on January 22, 2001 (66 FR 6514). The study was conducted to evaluate the need for modifications to current vessel routing and traffic management measures due to increased maritime activities. However, there has never been a PARS conducted for the entire Pacific Coast of the United States designed to analyze all vessel traffic proceeding to and from all the ports and transiting through the United States Exclusive Economic Zone (EEZ).

C. Need for a New Port Access Route Study: Given the current development of aquaculture farms, offshore renewable energy, commercial spaceports/re-entry sites, expansion of marine sanctuaries, development of ports supporting Panamax vessels, potential LNG ports, National Security Measures, DOD testing and training, and commercial traffic, the Coast Guard is conducting the PAC-PARS (Washington, Oregon, and California). This PAC-PARS will focus on the coastwise shipping routes and near coastal users of the Pacific Ocean between the coastal ports and the approaches to coastal ports within the EEZ. This PAC-PARS will help the Coast Guard determine what impact, if any, the siting, construction, and operation of new developments may have on existing near coastal users of the Pacific Ocean. To ensure the safety of navigation, the Coast Guard will determine the impacts of rerouting traffic, funneling traffic, and placement of structures that may obstruct navigation. Some of the effects to be considered are increased vessel traffic density, offshore vessel routing, fixed navigation obstructions, underwater cable hazards, and economic impacts. Analyzing the various results will require a thorough understanding of the interrelationships of shipping, other commercial and recreational uses, Outer Continental Shelf (OCS) development, and port operations.

III. Information Requested

Timelines, Study Area, Focus, and Process: Coast Guard Eleventh District will conduct further analysis in the following areas, which may take approximately three to six months to complete. The study will focus on vessel traffic and navigation mitigation techniques to improve and support safe navigation transits within the area. It will encompass the areas bound by the aforementioned coordinates.

This is a Notification of Inquiry (NOI) to assess the vessel traffic and routing in the waters indicated by the supplemental PDF, “Chart of District Eleven PAC-PARS Focus Areas” (available in the docket), and bound by the following coordinates:

Area 1: BOEM HUMBOLDT BAY WEA:

40-37.06N 124-35.22W;

40-37.62N 125-15.54W;

41-14.16N 125-15.54W;

41-13.61N 124-15.42W.

Area 2: SAN FRANCISCO BAY:

36-16.27N 121-54.24W;

36-10.36N 123-18.54W;

38-06.78N 124-29.34W;

38-33.93N 123-30.12W.

Area 3: BOEM MORRO BAY WEA:

35-53.90N 122-53.22W;

35-57.09N 121-45.18W;

35-20.35N 121-17.04W;

35-18.54N 122-24.60W.

Area 4: POINT MUGU:

33-46.29N 120-07.80W;

33-53.04N 119-22.80W;

33-28.62N 118-36.48W;

33-2.922N 118-35.10W;

32-50.54N 119-17.58W;

32-13.79N 121-44.22W;

34-19.54N 123-07.02W;

35-14.83N 121-01.86W;

34-59.52N 120-41.52W;

33-58.98N 120-39.48W.

We will analyze current and historical vessel traffic, fishing vessel information, agency and stakeholder experience in vessel traffic management, navigation, ship handling, and effects of weather. We encourage you to participate by submitting comments in response to this proposed rule.

We will publish the results of the inquiry in the Federal Register under the same docket USCG-2021-0345. It is possible that the results may validate existing vessel routing measures and conclude that no changes are necessary. It is also possible that the study may recommend one or more changes to enhance navigational safety and the efficiency of vessel traffic. The recommendations may consider the development of future rulemakings or appropriate international agreements.

Possible Scope of the Recommendations: We are attempting to determine the scope of any safety concerns associated with vessel transits in the focus areas. The information gathered during the study should help us identify concerns and mitigating solutions. Considerations might include: (1) Maintain the current vessel routing measures; (2) modify the existing traffic separation schemes; (3) create one or more precautionary areas; (4) create one or more inshore traffic zones; (5) establish area(s) to be avoided; (6) create deep-draft routes; (7) establish Regulated Navigation Areas (RNA) with specific vessel operating requirements to ensure safe navigation near shallow water; (8) identify any other appropriate ships' routing measures; (9) use this study for future decisions on routing measures or other maritime traffic considerations and; (10) use this study to inform other agencies concerning the impacts of their future endeavors.

Questions: To help us conduct the area study, we request information that will help answer the following questions, although comments on other issues addressed in this notice are also welcome. In responding to a question, please explain your reasons for each answer and follow the instructions under “Public Participation and Request for Comments” below.

These questions were generated with the purpose of eliciting information for the four focus areas alone. Any information provided should be directly related to one or more of the four focus areas.

General Questions (all four areas):

(1) What are the demographics of the vessel your organization represents? (Vessel length, vessel draft, vessel type, etc.)

(2) Which of the four areas do you transit through? Where are your transit routes?

(3) What criteria are used in determining your transit routes?

(4) How are your vessel routes affected by seasonal weather patterns, storms, or other adverse environmental conditions you have experienced in the focus areas? Please explain.

(5) What navigational hazards do vessels operating in the focus areas face? Please describe.

(6) Are there strains on the current vessel routing systems?

(7) Do you perceive increasing traffic density to cause increased navigational risk?

(8) What is your prediction of future growth with traffic density? Please describe.

(9) What is the minimum safe width of coastwise traffic separation schemes and lanes considering the traffic density and other conditions of the focus areas?

(10) Are modifications to existing vessel routing measures needed to address hazards and improve traffic efficiency in the study area? If so, please describe.

(11) Is your organization open to traffic management strategies (TSS, Fairways, IMO recommended routes)? Please elaborate.

(12) What costs and benefits are associated with traffic management strategies?

(13) What traffic management strategies do you think are most cost-effective?

(14) What traffic management strategies do you think are most detrimental to cost-effectiveness?

(15) What impacts, both positive and negative, would changes to existing routing measures or new routing measures have on the study area?

(16) What improvements to waterway management would you like to see? If none, why?

(17) What current waterway operations affect navigation? How (details please)?

(18) Do the marine sanctuaries affect your navigation routing plans?

(19) What is a safe and appropriate distance between vessel traffic and major projects such as aquaculture farms and wind farms?

(20) Are there any results you would like to see in the completed PAC-PARS study?

(21) Would you be interested in attending virtual presentations of findings?

Pacific Missile Range off Point Mugu and Vandenberg Space Force Base:

(22) Do you typically transit to the north or to the south of the Channel Islands?

(23) Do the operations surrounding the Pacific Missile Range off Vandenberg Space Force Base and the Point Mugu zone affect your routing plans and vessel movement? How?

(24) How often are you displaced by hazardous operations, testing, and military training in the Pacific Missile Range? Please describe.

BOEM Wind Energy Areas (Humboldt Bay and Morro Bay)

(25) What navigational challenges do you foresee with the implementation of BOEM's Wind Energy Areas (WEAs)?

(26) Do you currently transit through the proposed BOEM WEAs? Please describe.

(27) Do you think the Coast Guard should create designated fairways, traffic separation schemes for vessels, or exclusion/restricted areas around wind farms?

(28) Would you prefer wind farm exclusion/restricted areas where you can navigate anywhere outside of the wind farm, or would you prefer to restrict your navigation inside designated coastwise fairways and traffic separation schemes through the wind farms? Please explain.

Is there any additional information, unrelated to any specific question above, that you believe the USCG needs to consider?

IV. Public Participation and Request for Comments

We encourage you to submit comments in response to this notification of inquiry through the Federal Decision Making portal at https://www.regulations.gov. To do so, go to https://www.regulations.gov, type USCG-2021-0345 in the search box, and click “Search.” Next, look for this document in the Search Results column, and click on it. Then click on the Comment option. In your submission, please include the docket number for this notice of inquiry and provide a reason for each suggestion or recommendation. If your material cannot be submitted using https://www.regulations.gov, contact the person in the FOR FURTHER INFORMATION CONTACT section of this document for alternate instructions.

To view documents mentioned in this notice of inquiry as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

Additionally, if you go to the online docket and sign up for email alerts, you will be notified when comments are posted.

This notice is published under the authority of 5 U.S.C. 552(a).

Dated: February 17, 2022.
B.K. Penoyer,
Rear Admiral, U.S. Coast Guard, Commander, Eleventh District.

[FR Doc. 2022-03990 Filed 2-24-22; 8:45 am]

BILLING CODE P